DEPARTMENT OF TRANSPORTATION

Federal Railroad Administration

[Docket Number FRA-2010-0100]

Petition for Extension of Waiver of Compliance

Under part 211 of title 49 Code of Federal Regulations (CFR), this document provides the public notice that on May 31, 2022, Brownsville & Rio Grande International Railway, LLC (BRG) petitioned the Federal Railroad Administration (FRA) to extend a waiver of compliance from certain provisions of the Federal railroad safety regulations contained at 49 CFR part 215 (Railroad Freight Car Safety Standards) and § 232.205, Class I Brake Test—Initial Terminal Inspection. FRA assigned the petition Docket Number FRA-2010-0100.

Specifically, BRG seeks to retain relief that permits BRG to pick up trains received in interchange at the U.S./Mexico border from Kansas City Southern de Mexico Railway (KCSM) via Union Pacific Railroad Company (UP) at UP's Olmito Yard in Olmito, Texas (in lieu of BRG's interchange point with UP at milepost (MP) 4.48), and move them to perform the required FRA inspections (see Docket Number FRA-2007-28340). BRG's existing relief states that the inspection location is on BRG's South Lead on the Palo Alto Subdivision, between MPs 2.0 and 3.0. In this request, BRG seeks to modify the inspection location to between MPs 1.0 and 3.0.

In support of its petition, BRG states the extension would help expedite any delays caused by required port of entry inspections and other unforeseen delays. It would also provide capacity to process two inbound trains back-to-back, allowing for more efficient use of bridge windows. BRG further states that the change will support the ongoing extensive growth in the Rio Grande Valley.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by August 8, 2022 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety Chief Safety Officer.

[FR Doc. 2022-13493 Filed 6-23-22; 8:45 am]

BILLING CODE 4910-06-P